DEPARTMENT OF HOUSING AND URBAN DEVELOPMENT

[Docket No. FR-5828-N-38]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Health and Human Services: Ms. Theresa M. Ritta, Chief Real Property Branch, the Department of Health and Human Services, Room 5B-17, Parklawn Building, 5600 Fishers Lane, Rockville, MD 20857, (301) 443-2265; Navy: Mr. Steve Matteo, Department of the Navy, Asset Management; Division, Naval Facilities Engineering Command, Washington Navy Yard, 1330 Patterson Ave. SW., Suite 1000, Washington, DC 20374; (202) 685-9426 (These are not toll-free numbers).

Dated: September 10, 2015.
Brian P. Fitzmaurice,
Director, Division of Community Assistance, Office of Special Needs Assistance Programs.

TITLE V, FEDERAL SURPLUS PROPERTY PROGRAM Federal Register REPORT FOR 09/18/2015

Suitable/Available Properties

Building

California

2 Buildings

5050 Smokey Court

Camp Connell CA 95223

Landholding Agency: Agriculture

Property Number: 15201510014

Status: Excess

Directions: Site 5202, Bldg. 5002

Comments: Off-site removal; 48+yrs.old; wood structure; 528 sq. ft.; office; very poor conditions; no future agency need; contact Agriculture of more info.

Michigan

Bergland Middle Building

Bergland Cultural Center Site

Bergland MI 49910

Landholding Agency: Agriculture

Property Number: 15201430017

Status: Unutilized

Comments: 1,025 sq. ft., storage; 120+ months vacant; deteriorating; building on National Register Site; contact Agriculture for more information.

Ontonagon Ranger House

1205 Rockland Road

Ontonagon MI 49953

Landholding Agency: Agriculture

Property Number: 15201430018

Status: Unutilized

Comments: 1,570 sq. ft., residential; 96+ months vacant; poor conditions; contact Agriculture for more information.

Montana

Residential Garage W/1032

Infra #1500

Ant Flat Road

Eureka MT 95501

Landholding Agency: Agriculture

Property Number: 15201520025

Status: Excess

Comments: Off-site removal only; 61+ yrs. old; 491 sq. ft.; storage; contact Agriculture for more information.

2-Bedroom Family Dwelling

Infra. #1032

Ant Flat Road

Eureka MT 95501

Landholding Agency: Agriculture

Property Number: 15201520026

Status: Excess

Directions: Ant Flat Road

Comments: Off-site removal; 64+ yrs. old; 1,004 sq. ft.; residential; 30+ mos. vacant; experience extensive flood; damage which caused significant mold damage; contact Agriculture for more information.

New York

Hector Grazing Association

Hdgt. House

5046 Rt. 1 Searsburg Road

Hector NY 14886

Landholding Agency: Agriculture

Property Number: 15201510001

Status: Unutilized

Comments: 125+ yrs. Old; 1,000 sq. ft.; storage; residential; vacant 96 NOS; wood structure; repaired needed in 2006 totaled $89,000; contact Agric. For more info.

Oregon

XX334 GB Grizzly Communication

Bldg. 1560.005181 076630 00

Agness OR 97406

Landholding Agency: Agriculture

Property Number: 15201430020

Status: Excess

Directions: 25 sq. ft.; shed; 39+ yrs.-old; poor condition

Comments: Off-site removal only; restrictive removal due to constraints surrounding land/vegetation.

Washington

Beth Lake Comfort Station

1303.005031

Beth Lake Campground

Chesaw WA 98844

Landholding Agency: Agriculture

Property Number: 15201520029

Status: Unutilized

Directions: 0325-0765300

Comments: Off-site removal; 50+ yrs.; old; 900 sq. ft.; toilet; 24+ mos. Vacant; not needs replacing; no future agency need; contact Agriculture for more information.

Wisconsin

Luepke Way Garage

207 Luepke Way

Medford WI 54451

Landholding Agency: Agriculture

Property Number: 15201440005

Status: Unutilized

Comments: off-site removal only; no future agency need; 96+ months vacant; 576 sq. ft.; roof & siding in poor conditions; wood structure; contact Agriculture for more information

Clam Lake Warehouse #364

61766 Highway 77

Clam Lake WI 54517

Landholding Agency: Agriculture

Property Number: 15201510029

Status: Unutilized

Comments: Off-site removal only; no future agency need; 800 sq. ft.; storage; good condition; contact Agriculture for more information.

Unsuitable Properties

Building

Arkansas

NCTR—Building 6 30956

3900 NCTR Rd.

Jefferson AR 72079

Landholding Agency: HHS

Property Number: 57201530010

Status: Unutilized

Comments: research-based campus; highly classified; public access denied and no alternative method to gain access w/out compromising national security.

Reasons: Secured Area

NCTR-Building13 Administrative

30956

3900 NCTR Rd.

Jefferson AR 72079

Landholding Agency: HHS

Property Number: 57201530011

Status: Unutilized

Comments: Researched-based campus; highly classified; public access denied and no alternative to gain access w/out compromising national security

Reasons: Secured Area

Colorado

8 Buildings; East Portal Site

Gilpin County Road

Nederland CO

Landholding Agency: Agriculture

Property Number: 15201430019

Status: Excess

Directions: 176; 177; 178; 179; 180; 181; 182; 183

Comments: Documented deficiencies; structurally unsound extreme deterioration; clear threat of physical safety.

Reasons: Extensive deterioration

Idaho

Bonners Cook Trailer

Infra. #1413

Bonners Ferry Ranger District Admin. Site

Bonners Ferry ID

Landholding Agency: Agriculture

Property Number: 15201510025

Status: Excess

Comments: Documented deficiencies: roof collapsing; clear threat to personal safety.

Reasons: Extensive deterioration.

Maryland

NIHBC #34 + 34A

34 Service Drive West

Bethesda MD 20892

Landholding Agency: HHS

Property Number: 57201510001

Status: Unutilized

Directions: #40506-00-0034; #40506-00-0034A

Comments: Research based facility; Public access denied & no alter method to gain access w/out compromising Nat'l Security.

Reasons: Secured Area.

Michigan

Mio 7 Winowiecki Consumers Cab

Huron Nat'l Forest Old M-72

(Smith Bridge)

Grayling MI 49738

Landholding Agency: Agriculture

Property Number: 15201520003

Status: Unutilized

Comments: Documented deficiencies: documentation provided represents a clear threat to personal safety; significant rot in floor/roof structure; relocation will most likely result in the roof collapsing.

Reasons: Extensive deterioration.

Michigan

Mio 7 Winowiecki Consumers Lea

Huron National Forest Old M-72

(Smith Bridge)

Grayling MI 49738

Landholding Agency: Agriculture

Property Number: 15201520004

Status: Unutilized

Comments: Documented deficiencies: documentation provided represents a clear threat to personal safety; interior space of the structure cannot be made to comply w/habitability requirements.

Reasons: Extensive deterioration.

Pennsylvania

4 Buildings

Cochrans Mills Rd.

Pittsburgh PA 15236

Landholding Agency: HHS

Property Number: 57201410002

Status: Underutilized

Directions: 3, 101, 140, 145

Comments: w/in CDC secured campus; public access denied and no alternative to gain access w/out compromising national security.

Reasons: Secured Area.

Texas

Building 46 ID 620240B046

2881 F&B Road

College Station TX 77845

Landholding Agency: Agriculture

Property Number: 15201520027

Status: Unutilized

Comments: Tin roof in poor condition; ceiling falling down; exterior walls are rotten & pulling apart from the floor & roof; floor beams are rotten and unable to support the floor structure.

Reasons: Extensive deterioration.

VIRGINIA

21 Buildings

Marine Corps Base

Quantico VA

Landholding Agency: Navy

Property Number: 77201530016

Status: Unutilized

Directions: 27010A; 27013A; 27014B; 27015C; 27017D; 27026A; 27026Q; 27030A; 27061A; 27064D; 2739; 27246; 27246A; 27280B; 27553; 27018A; 27035; 27036; 2704A; 27058; 27012B—200 sq. ft. for each building listed.

Comments: REDETERMINATION: documented deficiencies: severely dilapidated; structurally unsound; clear threat to physical safety.

Reasons: Extensive deterioration.

Wisconsin

Vanderveen Barn; Infra. #332

N15484 Shady Knoll Road

Park Falls WI 54552

Landholding Agency: Agriculture

Property Number: 15201440009

Status: Unutilized

Comments: Documented deficiencies: dilapidated; sections of missing/collapsing; clear threat to physical safety.

Reasons: Extensive deterioration.

[FR Doc. 2015-23139 Filed 9-17-15; 8:45 am]

BILLING CODE 4210-67-P